DEPARTMENT OF COMMERCE

International Trade Administration

[A-570-929]

Small Diameter Graphite Electrodes From the People's Republic of China: Amended Final Results of Antidumping Duty Administrative Review; 2014-2015

AGENCY: Enforcement and Compliance, International Trade Administration, Department of Commerce.

SUMMARY: On September 9, 2016, the Department of Commerce (the Department) published the final results of the administrative review of the antidumping duty order on small diameter graphite electrodes (SDGEs) from the People's Republic of China (the PRC). The period of review (POR) is February 1, 2014, through January 31, 2015. We are amending the final results of the administrative review to correct certain ministerial errors.

DATES: Effective October 17, 2016.

FOR FURTHER INFORMATION CONTACT: Dmitry Vladimirov or Michael A. Romani, AD/CVD Operations, Office I, Enforcement and Compliance, International Trade Administration, U.S. Department of Commerce, 1401 Constitution Avenue NW., Washington DC 20230; telephone: (202) 482-0665 or (202) 482-0198, respectively.

SUPPLEMENTARY INFORMATION:

Background

On September 9, 2016, the Department published the final results of the administrative review of the antidumping duty order on SDGEs from the PRC.¹ On September 12, 2016, and September 13, 2016, we received timely ministerial error allegations from SGL Carbon LLC and Superior Graphite Co. (the petitioners), and the Fangda Group,² respectively.³ We also received rebuttal comments from the Fangda Group and Fushun Jinly Petrochemical Carbon Co., Ltd. (Fushun Jinly) (collectively, the respondents).⁴

¹ See Small Diameter Graphite Electrodes From the People's Republic of China: Final Results of Antidumping Duty Administrative Review; 2014-2015, 81 FR 62474 (September 9, 2016) (Final Results), and the accompanying Issues and Decision Memorandum (Final Results Issues and Decision Memorandum).

² We refer to the Fangda Group as a single entity pursuant to 19 CFR 351.401(f)(1). See Small Diameter Graphite Electrodes From the People's Republic of China: Preliminary Determination of Sales at Less Than Fair Value, Postponement of Final Determination, and Affirmative Preliminary Determination of Critical Circumstances, in Part, 73 FR 49408, 49411-12 (August 21, 2008) (where we collapsed the individual members of the Fangda Group: Beijing Fangda Carbon Tech Co., Ltd., Chengdu Rongguang Carbon Co., Ltd., Fangda Carbon New Material Co., Ltd., Fushun Carbon Co., Ltd., and Hefei Carbon Co., Ltd.), unchanged in Final Determination of Sales at Less Than Fair Value and Affirmative Determination of Critical Circumstances: Small Diameter Graphite Electrodes From the People's Republic of China, 74 FR 2049 (January 14, 2009).

³ See Letter from the petitioners to the Secretary of Commerce entitled, “6th Administrative Review of Small Diameter Graphite Electrodes From the People's Republic of China—Petitioners' Ministerial Error Allegations,” dated September 12, 2016 (Petitioners' Ministerial Error Allegations); and Letter from the Fangda Group to the Secretary of Commerce entitled, “Small Diameter Graphite Electrodes From China; Ministerial Error Allegation,” dated September 13, 2016.

⁴ See Letter from the respondents to the Secretary of Commerce entitled, “Small Diameter Graphite Electrodes From China; Reply to Petitioners' Ministerial Error Allegation,” dated September 19, 2016.

Scope of the Order

The merchandise covered by the order includes all small diameter graphite electrodes with a nominal or actual diameter of 400 millimeters (16 inches) or less and graphite pin joining systems for small diameter graphite electrodes. Small diameter graphite electrodes and graphite pin joining systems for small diameter graphite electrodes that are subject to the order are currently classified under the Harmonized Tariff Schedule of the United States (HTSUS) subheadings 8545.11.0010, 3801.10, and 8545.11.0020. While the HTSUS subheadings are provided for convenience and customs purposes, the written description of the scope of the order is dispositive. A full description of the scope of the order is contained in the Final Results Issues and Decision Memorandum.⁵

⁵ See Final Results Issues and Decision Memorandum at 2-3.

Ministerial Errors

Section 751(h) of the Tariff Act of 1930, as amended (the Act), and 19 CFR 351.224(f) define a “ministerial error” as an error “in addition, subtraction, or other arithmetic function, clerical error resulting from inaccurate copying, duplication, or the like, and any other similar type of unintentional error which the Secretary considers ministerial.” We analyzed the allegations submitted by the petitioners and the Fangda Group, and determined, in accordance with section 751(h) of the Act and 19 CFR 351.224(e), that we made ministerial errors in calculating the margin for the Fangda Group.⁶

⁶ See Memorandum from Senior Director James Maeder to Deputy Assistant Secretary Christian Marsh entitled, “Small Diameter Graphite Electrodes From the People's Republic of China: Ministerial Error Allegations,” dated concurrently with, and hereby adopted by, this notice.

In accordance with section 751(h) of the Act and 19 CFR 351.224(e), we are amending the Final Results.⁷ The revised weighted-average dumping margins are detailed below.

⁷ Id.

Amended Final Results of Review

We determine that the following weighted-average dumping margins exist for the period February 1, 2014, through January 31, 2015:

Company | Margin weighted average dumping margin (percent)
Fangda Group | 0.69
Fushun Jinly Petrochemical Carbon Co., Ltd.⁸ | 0.00
Xuzhou Jianglong Carbon Products Co., Ltd.⁹ | 0.69

⁸ This rate has not changed in these amended final results. See Petitioners' Ministerial Error Allegations.

⁹ We assigned Xuzhou Jianglong Carbon Products Co., Ltd. (Xuzhou Jianglong), a company that was not individually examined and is eligible for a separate rate, the weighted-average dumping margin calculated for the Fangda Group (i.e., 0.69 percent). See also Final Issues and Decision Memorandum at 3.

Assessment Rates

Pursuant to section 751(a)(2)(A) of the Act and 19 CFR 351.212(b)(1), the Department will determine, and U.S. Customs and Border Protection (CBP) shall assess, antidumping duties on all appropriate entries of subject merchandise in accordance with the amended final results of this review. For entries of subject merchandise during the period of review produced by Fushun Jinly, we will instruct CBP to liquidate the appropriate entries without regard to antidumping duties because Fushun Jinly's weighted-average dumping margin in these amended final results remains de minimis.¹⁰ For customers or importers of the Fangda Group for which we do not have entered values, we will calculate customer- (or importer-) specific per unit duty assessment rates based on the ratio of the total amount of dumping calculated for the customer's (or importer's) examined sales of subject merchandise to the total sales quantity associated with those sales, in accordance with 19 CFR 351.212(b)(1). For certain customers or importers of the Fangda Group for which we received entered-value information, we will calculate an antidumping duty assessment rate based on customer- or importer-specific ad valorem rates in accordance with 19 CFR 351.212(b)(1). For Xuzhou Jianglong, the assessment rate is equal to the weighted average dumping margin calculated for the Fangda Group, or 0.69 percent. For entries that were not reported in the U.S. sales databases submitted by companies individually examined during this review, the Department will instruct CBP to liquidate such entries at the PRC-wide rate of 159.64 percent.¹¹

¹⁰ See Antidumping Proceedings: Calculation of the Weighted-Average Dumping Margin and Assessment Rate in Certain Antidumping Duty Proceedings; Final Modification, 77 FR 8101 (February 14, 2012).

¹¹ See Final Determination of Sales at Less Than Fair Value and Affirmative Determination of Critical Circumstances: Small Diameter Graphite Electrodes from the People's Republic of China, 74 FR 2049, 2054-55.

We intend to issue assessment instructions to CBP 15 days after the date of publication of these amended final results of review.

Cash Deposit Requirements

The following cash deposit requirements will be effective retroactively on any entries made on or after September 9, 2016, the date of publication of the Final Results, for all shipments of the subject merchandise entered, or withdrawn from warehouse, for consumption as provided by section 751(a)(2)(C) of the Act: (1) No cash deposit will be required for subject merchandise exported by Fushun Jinly; (2) for subject merchandise exported by the Fangda Group and Xuzhou Jianglong, the cash deposit rate will be the rate established in the “Amended Final Results of Review” section; (3) for previously investigated or reviewed PRC and non-PRC exporters not listed above that received a separate rate in a prior segment of this proceeding, the cash deposit rate will continue to be the exporter-specific rate; (4) for all PRC exporters of subject merchandise that have not been found to be entitled to a separate rate, the cash deposit rate will be that for the PRC-wide entity, which is 159.64 percent; (5) for all non-PRC exporters of subject merchandise which have not received their own rate, the cash deposit rate will be the rate applicable to the PRC exporter that supplied that non-PRC exporter. These deposit requirements, when imposed, shall remain in effect until further notice.

Disclosure

We intend to disclose the calculations performed for these amended final results to interested parties within five days after the public announcement of the amended final results in accordance with 19 CFR 351.224(b).

Notification to Importers

This notice serves as a final reminder to importers of their responsibility under 19 CFR 351.402(f)(2) to file a certificate regarding the reimbursement of antidumping duties prior to liquidation of the relevant entries during this POR. Failure to comply with this requirement could result in the Secretary's presumption that reimbursement of the antidumping duties occurred and the subsequent assessment of double antidumping duties.

Notification Regarding Administrative Protective Order

This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

These amended final results of review are issued and published in accordance with sections 751(h) and 19 CFR 351.224(e) of the Act.

Dated: October 11, 2016.
Paul Piquado,
Assistant Secretary for Enforcement and Compliance.

[FR Doc. 2016-25059 Filed 10-14-16; 8:45 am]

BILLING CODE 3510-DS-P